DEPARTMENT OF ENERGY

Office of Energy Efficiency and Renewable Energy

Notice of Request for Information (RFI) on Identifying Opportunities To Address Barriers for Lowering the Cost and Risk of Geothermal Drilling

AGENCY: Office of Energy Efficiency and Renewable Energy, Department of Energy (DOE).

ACTION: Request for Information (RFI).

SUMMARY: The U.S. Department of Energy (DOE) invites public comment on its Request for Information (RFI) on Identifying Opportunities to Address Barriers for Lowering the Cost and Risk of Geothermal Drilling. The Office of Energy Efficiency and Renewable Energy is specifically interested in information on defining major challenges in geothermal drilling and identifying opportunities in research and development and process improvement, including opportunities to collaborate on best practices with other drilling industries.

DATES: Responses to the RFI must be received no later than 5:00 p.m. (ET) on January 22, 2018.

ADDRESSES: Interested parties are to submit comments electronically to geothermal.comments@ee.doe.gov. Responses must be provided as attachments to an email. Include “Geothermal Drilling RFI” as the subject of the email. It is recommended that attachments with file sizes exceeding 25MB be compressed (i.e., zipped) to ensure message delivery. Responses must be provided as a Microsoft Word (.docx) attachment to the email, and no more than 3 pages in length, 12 point font, 1 inch margins. Only electronic responses will be accepted. The complete RFI document is located at https://eere-exchange.energy.gov/Default.aspx#FoaId8eee00d1-af46-47ff-806e-a1c46df9b9d8.

FOR FURTHER INFORMATION CONTACT: Question may be addressed to geothermal.comments@ee.doe.gov. Further instruction can be found in the RFI document posted on EERE Exchange.

SUPPLEMENTARY INFORMATION: Geothermal energy has the potential to provide a significant amount of renewable electric power for the United States. Because drilling costs can account for 50% or more of the total capital cost for a geothermal power project, reducing those costs becomes one of the most important factors to realizing this potential. The purpose of this RFI is to solicit feedback from industry, academia, research laboratories, government agencies, and other stakeholders on issues related to lowering the costs and risks associated with drilling wells for geothermal development for electricity production. The Office of Energy Efficiency and Renewable Energy is seeking input in three areas: defining the major challenges, research and development opportunities, and process improvement opportunities. The RFI is available at: https://eere-exchange.energy.gov/Default.aspx#FoaId8eee00d1-af46-47ff-806e-a1c46df9b9d8.

Confidential Business Information

Pursuant to 10 CFR 1004.11, any person submitting information that he or she believes to be confidential and exempt by law from public disclosure should submit via email two well marked copies: One copy of the document marked “confidential” including all the information believed to be confidential, and one copy of the document marked “non-confidential” with the information believed to be confidential deleted. DOE will make its own determination about the confidential status of the information and treat it according to its determination.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person that would result from public disclosure; (6) when such information might lose its confidential character due to the passage of time; and (7) why disclosure of the information would be contrary to the public interest.

Issued in Washington, DC, on December 12, 2017.
Susan G. Hamm,
Director, Geothermal Technologies Office.

[FR Doc. 2017-27188 Filed 12-15-17; 8:45 am]

BILLING CODE 6450-01-P